DEPARTMENT OF ENERGY

Federal Energy Regulatory Commission

[Docket No. IC09-556-000]

Commission Information Collection Activities (FERC-556); Proposed Collection; Comment Request; Extension

February 11, 2009.

AGENCY: Federal Energy Regulatory Commission.

ACTION: Notice of proposed information collection and request for comments.

SUMMARY: In compliance with the requirements of section 3506(c)(2)(a) of the Paperwork Reduction Act of 1995 (Pub. L. 104-13), the Federal Energy Regulatory Commission (Commission) is soliciting public comment on the specific aspects of the information collection described below.

DATES: Comments in consideration of the collection of information are due April 17, 2009.

ADDRESSES: Comments may be filed either electronically or in paper format, and should refer to Docket No. IC09-556-000. Documents must be prepared in an acceptable filing format and in compliance with Commission submission guidelines at http://www.ferc.gov/help/submission-guide.asp.

Comments may be eFiled. The eFiling option under the Documents & Filings tab on the Commission's home web page (http://www.ferc.gov) directs users to the eFiling Web site. First-time users follow the eRegister instructions on the eFiling web page to establish a user name and password before eFiling. Filers will receive an e-mailed confirmation of their eFiled comments. Commenters filing electronically should not make a paper filing. If unable to make a filing electronically, deliver an original and 14 paper copies of the filing to: Federal Energy Regulatory Commission, Secretary of the Commission, 888 First Street, NE., Washington, DC 20426.

Parties interested in receiving automatic notification of activity in this docket may do so through eSubscription. The eSubscription option under the Documents & Filings tab on the Commission's home web page directs users to the eSubscription web page. Users submit the docket numbers of the filings they wish to track and will subsequently receive an e-mail notification each time a filing is made under the submitted docket numbers. First-time users will need to establish a user name and password before eSubscribing.

Filed comments and FERC issuances may be viewed, printed and downloaded remotely from the Commission's Web site. The red eLibrary link found at the top of most of the Commission's web pages directs users to FERC's eLibrary. From the eLibrary web page, choose General Search, and in the Docket Number space provided, enter IC09-556; then click the Submit button at the bottom of the page.

For help with any of the Commission's electronic submission or retrieval systems, contact FERC Online Support (e-mail at ferconlinesupport@ferc.gov, or telephone toll-free (866) 208-3676 (TTY (202) 502-8659)).

FOR FURTHER INFORMATION: Michael Miller may be reached by telephone at (202) 502-8415, by fax at (202) 273-0873, and by e-mail at michael.miller@ferc.gov.

SUPPLEMENTARY INFORMATION: The Commission uses the FERC Form No. 556, Cogeneration and Small Power Production, OMB Control Number 1902-0075, to implement the statutory provisions in Federal Power Act (FPA) section 3 (16 U.S.C. 792-828c) and sections 201 and 210 of the Public Utility Regulatory Policies Act (PURPA) of 1978 (16 U.S.C. 2601). These statutes authorize the Commission to encourage cogeneration and small power production and to prescribe such rules as necessary in order to carry out these statutory directives. Commission regulations pertaining to FERC Form No. 556 can be found in 18 CFR 131.80 and 18 CFR Part 292.

A primary objective of PURPA, as indicated in section 2 of the FPA is the conservation of energy through efficient use of energy resources and facilities by electric utilities. One means of achieving this goal is to encourage production of electric power by cogeneration facilities which make use of reject heat associated with commercial or industrial processes, and by small power production facilities which use other wastes and renewable resources as fuel. Congress, through PURPA, established various regulatory benefits to encourage the development of small power production facilities and cogeneration facilities which meet certain technical and corporate criteria. Facilities that meet these criteria are deemed qualifying facilities (QFs).

The Energy Policy Act of 2005 (EPAct 2005) ¹ and in particular section 1253(a), added section 210(m) to the PURPA providing, among other things, for termination of the requirement that an electric utility enter into a new contract or obligation to purchase electric energy from qualifying cogeneration facilities and qualifying small power production facilities (QFs) if the Commission finds that the QF has nondiscriminatory access to one of three categories of markets defined in section 210(m)(1)(A), (B) or (C). Thus, to relieve an electric utility of its mandatory purchase obligation under PURPA, the Commission has to identify which, if any, markets meet the criteria contained in 210(m)(1)(A), (B) or (C), and, if such markets are identified, it must determine whether QFs have nondiscriminatory access to those markets.

¹ Pub. L. 109-58, 1253, 119 Stat. 594 (2005).

In 18 CFR Part 292, the Commission provides: (1) QF certification criteria, (2) QF application information, (3) a description of some of the benefits afforded QFs,² and (4) transaction obligations electric utilities have with respect to QFs.

² Other benefits may be available to certain QFs pursuant to other federal, state or local laws.

Among the PURPA benefits identified in Part 292, are the requirements for electric utilities: (1) To make avoided cost information and system capacity needs available to the public; (2) to purchase energy and capacity from QFs favorably priced on the basis of the avoided cost of the power that is displaced by the QF power (i.e., the incremental cost to the purchasing utility if it had generated the displaced power or purchased it from another source); (3) to sell backup, maintenance and other power services to QFs at rates based on the cost of rendering the services; (4) to provide certain interconnection and transmission services priced on a nondiscriminatory basis; and (5) to operate in “parallel” with other interconnected QFs so that they may be electrically synchronized with electric utility grids.

A blank FERC Form No. 556 may be downloaded from the Commission's Web site: http://www.ferc.gov/docs-filing/hard-fil.asp#556. Click on the Electric tab, then click the Form No. 556 link. Choose from an MS Word or RTF format in the Downloads & Links column. Examples of filings may be viewed through the Commission's eLibrary system. Click on the red eLibrary link found at the top of any of the Commission's Web pages, choose General Search, then under Class/Type Info choose Type: Qualifying Facility Application or PURPA Energy Utility Filing; then click the Submit button at the bottom of the page.

Action: The Commission is requesting a three-year extension of the current expiration date.

Burden Statement: The public reporting burden for this collection is estimated to be as follows:

FERC-556 | Number of respondents annually | Number of responses per respondent | Average burden hours per response | Total annual burden hours
| (1) | (2) | (3) | (1) × (2) × (3)
FERC Certification | 4 | 1 | 20 | 80
Self Certification | 820 | 1 | 3 | 2460
Total | 824 |  |  | 2540

The estimated total cost to respondents is $154,334.31 [2,540 hours divided by 2,080 hours ³ per year, times $126,384 ⁴ equals $154,334.31]. The cost per respondent is $187.30.

³ Number of hours an employee works each year.

⁴ Average annual salary per employee.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The respondent's cost estimate is based on salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's burden estimate of the proposed collection of information, including the validity of the methodology and assumptions used; (3) ways to enhance the quality, utility and clarity of the information to be collected; and (4) ways to minimize respondent information collection burden.

Kimberly D. Bose,
Secretary.

[FR Doc. E9-3452 Filed 2-18-09; 8:45 am]

BILLING CODE 6717-01-P